DEPARTMENT OF STATE

[Delegation of Authority No. 311]

Negotiation, Conclusion, and Termination of Treaties and Other International Agreements

Section 1. Functions Delegated

By virtue of the authority vested in me by Section 1 of the State Department Basic Authorities Act (22 U.S.C. 2651a), I hereby delegate to the officers holding the positions specifically designated herein my authority under 1 U.S.C. 112b(c) and the Circular 175 procedure of the Department of State (22 CFR 181.4 and 11 FAM 700 et seq.) to negotiate, conclude, and terminate treaties and other international agreements, and to authorize the negotiation, conclusion, and termination of treaties and other international agreements by other United States Government officials.

This authority is delegated to the following:

The Deputy Secretary of State;

The Under Secretary of State for Political Affairs;

The Under Secretary of State for Economic, Energy and Agricultural Affairs;

The Under Secretary of State for Arms Control and International Security;

The Under Secretary of State for Democracy and Global Affairs;

The Under Secretary of State for Public Diplomacy and Public Affairs;

The Under Secretary of State for Management; and

Any successor positions to these positions.

Notwithstanding the provisions of this delegation of authority, the Secretary of State or the Deputy Secretary of State may at any time exercise any function hereby delegated.

Section 2. Delegations Revoked

Delegation of Authority 150, dated December 14, 1982, and Delegation of Authority 205, dated September 1, 1993, are hereby revoked.

Section 3. Publication

This Delegation of Authority shall be published in the Federal Register.

Dated: March 28, 2008.
Condoleezza Rice,
Secretary of State, Department of State.

[FR Doc. E8-7344 Filed 4-7-08; 8:45 am]

BILLING CODE 4710-10-P